DEPARTMENT OF ENERGY

Federal Energy Regulatory Commission

[CP18-513-000]

Cheniere Corpus Christi Pipeline, LP; Notice of Request for Extension of Time

Take notice that on August 27, 2025, Cheniere Corpus Christi Pipeline, LP (CCPL) requested that the Commission grant an extension of time, until December 31, 2029, to construct and place into service its Stage 3 Pipeline Project (Project), located in San Patricio County, Texas, as authorized in the Order Granting Authorizations under Sections 3 and 7 of the Natural Gas Act (Order).¹ The Order required CCPL to complete construction of the Project and make it available for service within five years of the date of the Order, or by November 22, 2024.

¹ Corpus Christi Liquefaction Stage III, LLC, Corpus Christi Liquefaction, LLC & Cheniere Corpus Christi Pipeline, LP, 169 FERC ¶ 61,135 (2019).

On May 6, 2022, the Commission granted CCPL an extension of time, until June 30, 2027, to complete construction of the Project and make it available for service.²

² Corpus Christi Liquefaction Stage III, LLC, Corpus Christi Liquefaction, LLC & Cheniere Corpus Christi Pipeline, LP, 179 FERC ¶ 61,087 (2022), as amended, Errata Notice, Docket Nos. CP18-512-001 & CP18-513-001 (May 10, 2022), further amended, Errata Notice, Docket Nos. CP18-512-001 & CP18-513-001 (June 13, 2022) (the “Stage 3 Extension Order”), reh'g denied, 181 FERC ¶ 61,033 (2022), aff'd sub nom, Sierra Club v. FERC, 97 F.4th 16 (D.C. Cir. 2024).

Specifically, the Stage 3 Pipeline Project consists of a 21-mile-long, 42-inch-diameter pipeline, the installation of two Solar Titan 130E gas fired compressor units at CCPL's existing Sinton Compressor Station, meter stations, and other appurtenant facilities. CCPL requires additional time to complete construction and installation of the second Solar Titan 130E compressor unit (Unit No. 2), two receipt meters, a delivery meter, and related appurtenant facilities.

CCPL states that it has made good faith efforts to advance construction of the Stage 3 Pipeline Project, which has already been partially constructed and placed in service. CCPL states that construction activities commenced on February 24, 2020, and on January 26, 2021, CCPL placed the first Solar Titan 130E compressor unit in service. CCPL states that it has constructed the compressor building, suction and discharge header piping, and installed piping to accommodate supporting ancillary equipment to accommodate both the first unit placed in service as well as Unit No. 2. Additionally, CCPL states that it has submitted a purchase order for Unit No. 2. Because of a longer than anticipated timeline for obtaining and installing Unit No. 2, and because of updated logistical and planning milestones, CCPL estimates it will need additional time beyond the current June 30, 2027, in-service deadline to complete installation and commissioning, and to place the remaining facilities into service.

This notice establishes a 15-calendar day intervention and comment period deadline. Any person wishing to comment on CCPL's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (NGA) (18 CFR 157.10).

As a matter of practice, the Commission itself generally acts on requests for extensions of time to complete construction for NGA facilities when such requests are contested before order issuance. For those extension requests that are contested,³ the Commission will aim to issue an order acting on the request within 45 days.⁴ The Commission will address all arguments relating to whether the applicant has demonstrated there is good cause to grant the extension.⁵ The Commission will not consider arguments that re-litigate the issuance of the certificate order, including whether the Commission properly found the project to be in the public convenience and necessity and whether the Commission's environmental analysis for the certificate complied with the National Environmental Policy Act (NEPA).⁶ At the time a pipeline requests an extension of time, orders on certificates of public convenience and necessity are final and the Commission will not re-litigate their issuance.⁷ The Director of the Office of Energy Projects, or his or her designee, will act on all of those extension requests that are uncontested.

³ Contested proceedings are those where an intervenor disputes any material issue of the filing. 18 CFR 385.2201(c)(1).

⁴ Algonquin Gas Transmission, LLC, 170 FERC ¶ 61,144, at P 40 (2020).

⁵ Id. at P 40.

⁶ Similarly, the Commission will not re-litigate the issuance of an NGA section 3 authorization, including whether a proposed project is not inconsistent with the public interest and whether the Commission's environmental analysis for the permit order complied with NEPA.

⁷ Algonquin Gas Transmission, LLC, 170 FERC ¶ 61,144, at P 40 (2020).

In addition to publishing the full text of this document in the Federal Register, the Commission provides all interested persons an opportunity to view and/or print the contents of this document via the internet through the Commission's Home Page (http://www.ferc.gov). From the Commission's Home Page on the internet, this information is available on eLibrary. The full text of this document is available on eLibrary in PDF and Microsoft Word format for viewing, printing, and/or downloading. To access this document in eLibrary, type the docket number excluding the last three digits of this document in the docket number field.

User assistance is available for eLibrary and the Commission's website during normal business hours from FERC Online Support at (202) 502-6652 (toll free at 1-866-208-3676) or email at ferconlinesupport@ferc.gov, or the Public Reference Room at (202) 502-8371, TTY (202) 502-8659. Email the Public Reference Room at public.referenceroom@ferc.gov.

The Commission strongly encourages electronic filings of comments in lieu of paper using the “eFile” link at http://www.ferc.gov. In lieu of electronic filing, you may submit a paper copy which must reference the Project docket number.

To file via USPS: Debbie-Anne A. Reese, Secretary, Federal Energy Regulatory Commission, 888 First Street NE, Washington, DC 20426.

To file via any other courier: Debbie-Anne A. Reese, Secretary, Federal Energy Regulatory Commission, 12225 Wilkins Avenue, Rockville, Maryland 20852.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Comment Date: 5:00 p.m. Eastern Time on September 18, 2025.

Dated: September 3, 2025.
Debbie-Anne A. Reese,
Secretary.

[FR Doc. 2025-17228 Filed 9-8-25; 8:45 am]

BILLING CODE 6717-01-P